DEPARTMENT OF DEFENSE

Department of the Army; Corps of Engineers

Availability of the Final Supplemental Environmental Impact Statement for the Rueter-Hess Reservoir Expansion Project, Parker, CO

AGENCY: Department of the Army, U.S. Army Corps of Engineers, DoD.

ACTION: Notice of availability.

SUMMARY: The U.S. Army Corps of Engineers (Corps) Omaha District has prepared a Final Supplemental Environmental Impact Statement (SEIS) to analyze the direct, indirect and cumulative effects of enlarging the currently permitted Rueter-Hess Reservoir in Parker, CO. The Draft SEIS was published in the Federal Register on July 27, 2007 (72 FR 41300). The Final SEIS includes responses to comments received on the Draft SEIS.

The current project was authorized in February 2004 with Department of the Army Permit No. 199980472 (Section 404 Permit). The basic purpose of the Proposed Action would allow the reservoir to serve as a regional water management facility for multiple water providers in northern Douglas County; enable them to meet peak demands; greatly enhance water management in the region; and help extend the yield of the Denver Basin aquifers, a non-renewable water source and the primary source of water for the South Metro area. Expansion of the reservoir would result in direct impacts to an additional 0.21 acres of wetlands and 4 miles of intermittent stream channel (in addition to the 6.7 acres of wetlands and 5 miles of other waters of the U.S. permitted as part of the 16,200-acre-foot [AF] reservoir). This action requires authorization from the Corps under Section 404 of the Clean Water Act. The Permittee and Applicant is the Parker Water and Sanitation District (PWSD).

The Final SEIS was prepared in accordance with the National Environmental Policy Act (NEPA) of 1969, as amended, and the Corps' regulations for NEPA implementation (33 Code of Federal Regulations [CFR] parts 230 and 325, Appendices B and C). The Corps, Omaha District, Regulatory Branch is the lead federal agency responsible for the Final SEIS and information contained in the SEIS serves as the basis for a decision regarding issuance of a Section 404 Permit modification. It also provides information for local and state agencies having jurisdictional responsibility for affected resources.

DATES: The 30-day Notice of Availability of the Final SEIS ends on December 17, 2007.

ADDRESSES: Send written comments regarding the Proposed Action and Final SEIS to Rodney Schwartz, Senior Project Manager, U.S. Army Corps of Engineers, Omaha District—Regulatory Branch, 12565 West Center Road, Omaha, NE 68144-3869 or via e-mail: rodney.j.schwartz@usace.army.mil. Requests to be placed on or removed from the mailing list should also be sent to this address.

FOR FURTHER INFORMATION CONTACT: Rodney Schwartz, Senior Project Manager, U.S. Army Corps of Engineers at 402-221-4143; Fax 402-221-4939.

SUPPLEMENTARY INFORMATION: The purpose of the Final SEIS is to provide decision-makers and the public with information pertaining to the Proposed Action and alternatives, and to disclose environmental impacts and identify mitigation measures to reduce impacts. PWSD proposes to enlarge the Rueter-Hess Reservoir from the currently permitted design of 16,200 AF by 55,800 AF for a total storage capacity of approximately 72,000 AF. This is considered the site's maximum storage capacity based on the site's topography. The proposed expanded reservoir pool would inundate approximately 1,140 acres (an additional 672 acres). PWSD would maintain a 5,000-AF emergency reserve pool in the reservoir (elevation 6,110 feet) to be used as needed to provide a reliable water supply for its customers. The proposed design involves raising the currently permitted dam (embankment) by 61 feet, to a crest elevation of 6,220 feet, using a downstream raise concept. The final dam is proposed to be a 196-foot-high and 7,675-foot-long zoned earth embankment.

The purpose for the enlarged reservoir is to provide sufficient storage of Denver Basin groundwater, and the associated reuse water from initial Denver Basin use, for selected South Metro Denver area water providers, and to assist in sustaining the Denver Basin aquifers. The additional water to be stored in a proposed expanded Rueter-Hess Reservoir would come from existing sources (i.e., Denver Basin groundwater and associated reusable return flows). The reservoir would be used to manage supplies during off-peak times and use this water during peak times to reduce the need for instantaneous production from Denver Basin wells. In addition to the proposal to expand the reservoir, new pipelines would be installed to deliver the water to and from the new Project Participants (Town of Castle Rock, Castle Pines North Metropolitan District and Stonegate Metropolitan District).

In addition to the Proposed Action, the Final SEIS analyzes two alternatives: (1) The Reduced-Capacity Reservoir (47,000 AF) Alternative, and (2) the No Action Alternative. The Reduced-Capacity Reservoir Alternative dam would be located along the same axis as the Proposed Action, but would be smaller in length (7,160 feet) and height (179 feet). The reservoir would have a surface area of 934 acres at normal pool. The No Action Alternative assumes that PWSD and the other Project Participants would continue their current operations of primarily providing water to their customers with Denver Basin groundwater by drilling additional wells to meet peak summertime demands. PWSD would construct the currently permitted Rueter-Hess Reservoir (16,200 AF) to obtain firm annual yield for the PWSD, focusing on meeting peak summertime demands. Stonegate would have some storage capacity (1,200 AF) in the currently permitted reservoir. Castle Rock and Castle Pines North would not have surface water storage available to meet their needs; therefore, their ability to capture and reuse their reusable return flows would be limited. Castle Rock and Castle Pines North would extract and use their reuse water only as it is being generated from their advanced wastewater treatment plants and lawn irrigation.

Copies of the Final SEIS will be available for review at:

1. Parker Library, 10851 South Crossroads Drive, Parker, CO 80134.

2. Philip S. Miller Library, 100 S. Wilcox, Castle Rock, CO 80104.

3. Parker Water and Sanitation District, 19801 East Mainstreet, Parker, CO 80138.

4. U.S. Army Corps of Engineers, Denver Regulatory Office, 9307 S. Wadsworth Boulevard, Littleton, CO 80128.

5. Electronically at https://www.nwo.usace.army.mil/html/od-tl/eis-info.htm.

Copies may also be obtained from the Corps' third-party contractor, URS Corporation, Attn: Rachel Badger, 8181 East Tufts Avenue, Denver, CO 80237; 303-740-2778; Fax 303-694-3946; rachel_badger@urscorp.com.

Martha S. Chieply,
Chief, Regulatory Branch, Operations Division, Omaha District.

[FR Doc. E7-22317 Filed 11-15-07; 8:45 am]

BILLING CODE 3710-62-P